DEPARTMENT OF TRANSPORTATION

Federal Aviation Administration

14 CFR Part 39

[Docket Nos. FAA-2007-0413 and FAA-2007-0414; Directorate Identifiers 2007-NM-341-AD and 2007-NM-340-AD]

RIN 2120-AA64

Airworthiness Directives; Bombardier Model CL-600-2B19 (Regional Jet Series 100 & 440), CL-600-2C10 (Regional Jet Series 700, 701 & 702), CL-600-2D15 (Regional Jet Series 705), and CL-600-2D24 (Regional Jet Series 900) Airplanes

AGENCY: Federal Aviation Administration (FAA), Department of Transportation (DOT).

ACTION: Notice of proposed rulemaking (NPRM); correction.

SUMMARY: The FAA is correcting typographical errors in two NPRMs that were published in the Federal Register on January 4, 2008 (73 FR 833, and 73 FR 830). The errors resulted in incorrect docket numbers. One NPRM applies to all Bombardier Model CL-600-2B19 (Regional Jet Series 100 & 440) airplanes. The other NPRM applies to all Bombardier Model CL-600-2C10 (Regional Jet Series 700, 701 & 702), CL-600-2D15 (Regional Jet Series 705), and CL-600-2D24 (Regional Jet Series 900) airplanes. Both actions proposed to require revising the Airworthiness Limitations Section of the Instructions for Continued Airworthiness to incorporate new limitations for fuel tank systems.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Rocco Viselli, Aerospace Engineer, Airframe and Propulsion Branch, ANE-171, FAA, New York Aircraft Certification Office, 1600 Stewart Avenue, Suite 410, Westbury, New York 11590; telephone (516) 228-7331; fax (516) 794-5531.

SUPPLEMENTARY INFORMATION: On December 26, 2007, the FAA issued a notice of proposed rulemaking (NPRM) for all Bombardier Model CL-600-2B19 (Regional Jet Series 100 & 440) airplanes. That NPRM, Directorate Identifier 2007-NM-341-AD, was published in the Federal Register on January 4, 2008 (73 FR 833).

On December 21, 2007, the FAA issued an NPRM for all Bombardier Model CL-600-2C10 (Regional Jet Series 700, 701 & 702), CL-600-2D15 (Regional Jet Series 705), and CL-600-2D24 (Regional Jet Series 900) airplanes. That NPRM, Directorate Identifier 2007-NM-340-AD, was published in the Federal Register on January 4, 2008 (73 FR 830).

Both actions proposed to require revising the Airworthiness Limitations Section of the Instructions for Continued Airworthiness to incorporate new limitations for fuel tank systems.

As published, those NPRMs specify incorrect docket numbers throughout the preamble and the regulatory text. The docket number associated with NPRM Directorate Identifier 2007-NM-341-AD was FAA-2008-0413, and the docket number associated with NPRM Directorate Identifier 2007-NM-340-AD was FAA-2008-0414. The docket numbers were assigned by the Federal Document Management System. We have been informed that incorrect docket numbers were assigned. The correct docket number for NPRM Directorate Identifier 2007-NM-341-AD is FAA-2007-0413. The correct docket number for NPRM Directorate Identifier 2007-NM-340-AD is FAA-2007-0414.

Any commenter who submitted comments to an original, incorrect docket number should check Docket No. FAA-2007-0413 or FAA-2007-0414 on www.regulations.gov to determine whether the comments have been received and filed in the appropriate docket. If not, or if it is not possible to determine whether comments have been posted to the correct docket, the comments should be resubmitted using the correct docket number.

No other part of the preamble or regulatory information has been changed; therefore, the NPRMs are not republished in the Federal Register.

The last date for submitting comments to the NPRMs remains February 4, 2008.

Correction

In the Federal Register of January 4, 2008, on page 833, in the second column, the headings section of NPRM Docket No. FAA-2008-0413, Directorate Identifier 2007-NM-341-AD, is corrected to read as follows:

“[Docket No. FAA-2007-0413; Directorate Identifier 2007-NM-341-AD]”

In the Federal Register of January 4, 2008, on page 833, in the third column, the SUPPLEMENTARY INFORMATION section of NPRM Docket No. FAA-2008-0413, Directorate Identifier 2007-NM-341-AD, is corrected to read as follows:

“* * * Include “Docket No. FAA-2007-0413; Directorate Identifier 2007-NM-341-AD” at the beginning of your comments. * * *”

In the Federal Register of January 4, 2008, on page 830, in the second column, the headings section of NPRM Docket No. FAA-2008-0414, Directorate Identifier 2007-NM-340-AD, is corrected to read as follows:

“[Docket No. FAA-2007-0414; Directorate Identifier 2007-NM-340-AD]”

In the Federal Register of January 4, 2008, on page 831, in the first column, the SUPPLEMENTARY INFORMATION section of NPRM Docket No. FAA-2008-0414, Directorate Identifier 2007-NM-340-AD, is corrected to read as follows:

“* * * Include “Docket No. FAA-2007-0414; Directorate Identifier 2007-NM-340-AD” at the beginning of your comments. * * *”

§ 39.13 [Corrected]

In the Federal Register of January 4, 2008, on page 835, in the first column, paragraph 2. of PART 39—AIRWORTHINESS DIRECTIVES of NPRM Docket No. FAA-2008-0413, Directorate Identifier 2007-NM-341-AD is corrected to read as follows:

* * * * *

Bombardier, Inc. (Formerly Canadair): Docket No. FAA-2007-0413; Directorate Identifier 2007-NM-341-AD.

* * * * *

In the Federal Register of January 4, 2008, on page 832, in the second column, paragraph 2. of PART 39—AIRWORTHINESS DIRECTIVES of NPRM Docket No. FAA-2008-0414, Directorate Identifier 2007-NM-340-AD is corrected to read as follows:

* * * * *

Bombardier, Inc. (Formerly Canadair): Docket No. FAA-2007-0414; Directorate Identifier 2007-NM-340-AD.

* * * * *

Issued in Renton, Washington, on January 24, 2008.
Ali Bahrami,
Manager, Transport Airplane Directorate, Aircraft Certification Service.

5

[FR Doc. E8-1695 Filed 1-30-08; 8:45 am]

BILLING CODE 4910-13-P